DEPARTMENT OF HOMELAND SECURITY

Federal Emergency Management Agency

44 CFR Part 64

[Docket ID FEMA-2012-0003; Internal Agency Docket No. FEMA-8233]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR Part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain federal assistance no longer available in SFHAs
Region II
New York:
Andes, Town of, Delaware County | 360188 | August 28, 1975, Emerg; May 1, 1985, Reg; June 19, 2012, Susp | June 19, 2012 | June 19, 2012.
Bovina, Town of, Delaware County | 360190 | August 12, 1975, Emerg; May 1, 1985, Reg; June 19, 2012, Susp | ......do* | Do.
Colchester, Town of, Delaware County | 360191 | September 8, 1975, Emerg; January 3, 1986, Reg; June 19, 2012, Susp | ......do | Do.
Davenport, Town of, Delaware County | 360192 | July 7, 1975, Emerg; May 15, 1985, Reg; June 19, 2012, Susp | ......do | Do.
Delhi, Town of, Delaware County | 360193 | August 5, 1975, Emerg; July 18, 1985, Reg; June 19, 2012, Susp | ......do | Do.
Delhi, Village of, Delaware County | 361572 | February 11, 1974, Emerg; July 18, 1985, Reg; June 19, 2012, Susp | ......do | Do.
Deposit, Town of, Delaware County | 360195 | September 5, 1975, Emerg; March 18, 1986, Reg; June 19, 2012, Susp | ......do | Do.
Fleischmanns, Village of, Delaware County | 360197 | December 17, 1975, Emerg; January 17, 1986, Reg; June 19, 2012, Susp | ......do | Do.
Franklin, Town of, Delaware County | 360198 | July 2, 1975, Emerg; April 1, 1988, Reg; June 19, 2012, Susp | ......do | Do.
Franklin, Village of, Delaware County | 360199 | August 8, 1975, Emerg; August 1, 1987, Reg; June 19, 2012, Susp | ......do | Do.
Hamden, Town of, Delaware County | 360200 | September 12, 1975, Emerg; March 4, 1986, Reg; June 19, 2012, Susp | ......do | Do.
Hancock, Village of, Delaware County | 360202 | June 19, 1975, Emerg; December 10, 1982, Reg; June 19, 2012, Susp | ......do | Do.
Harpersfield, Town of, Delaware County | 360203 | August 15, 1975, Emerg; June 5, 1985, Reg; June 19, 2012, Susp | ......do | Do.
Kortright, Town of, Delaware County | 360205 | July 28, 1975, Emerg; May 15, 1985, Reg; June 19, 2012, Susp | ......do | Do.
Masonville, Town of, Delaware County | 360206 | September 17, 1975, Emerg; November 1, 1985, Reg; June 19, 2012, Susp | ......do | Do.
Meredith, Town of, Delaware County | 360207 | July 21, 1976, Emerg; May 15, 1985, Reg; June 19, 2012, Susp | ......do | Do.
Middletown, Town of, Delaware County | 360209 | July 30, 1976, Emerg; May 15, 1985, Reg; June 19, 2012, Susp | ......do | Do.
Roxbury, Town of, Delaware County | 361036 | August 1, 1975, Emerg; May 15, 1985, Reg; June 19, 2012, Susp | ......do | Do.
Sidney, Town of, Delaware County | 360210 | July 1, 1975, Emerg; September 30, 1987, Reg; June 19, 2012, Susp | ......do | Do.
Stamford, Town of, Delaware County | 360212 | September 28, 1977, Emerg; October 1, 1986, Reg; June 19, 2012, Susp | ......do | Do.
Tompkins, Town of, Delaware County | 360214 | July 3, 1975, Emerg; November 15, 1985, Reg; June 19, 2012, Susp | ......do | Do.
Walton, Town of, Delaware County | 360215 | November 10, 1975, Emerg; September 2, 1988, Reg; June 19, 2012, Susp | ......do | Do.
Walton, Village of, Delaware County | 360216 | May 19, 1975, Emerg; April 2, 1991, Reg; June 19, 2012, Susp | ......do | Do.
Region III
Pennsylvania:
Adams, Township of, Cambria County | 421433 | November 25, 1975, Emerg; August 15, 1990, Reg; June 19, 2012, Susp | ......do | Do.
Allegheny, Township of, Cambria County | 422265 | August 26, 1975, Emerg; March 18, 1986, Reg; June 19, 2012, Susp | ......do | Do.
Ashville, Borough of, Cambria County | 422266 | July 25, 1975, Emerg; May 1, 1985, Reg; June 19, 2012, Susp | ......do | Do.
Barr, Township of, Cambria County | 421434 | May 11, 1976, Emerg; October 15, 1985, Reg; June 19, 2012, Susp | ......do | Do.
Blacklick, Township of, Cambria County | 421435 | March 25, 1976, Emerg; October 15, 1985, Reg; June 19, 2012, Susp | ......do | Do.
Brownstown, Borough of, Cambria County | 422654 | March 29, 1978, Emerg; October 30, 1978, Reg; June 19, 2012, Susp | ......do | Do.
Cambria, Township of, Cambria County | 421436 | December 3, 1975, Emerg; September 4, 1985, Reg; June 19, 2012, Susp | ......do | Do.
Cassandra, Borough of, Cambria County | 421426 | August 7, 1975, Emerg; March 5, 1990, Reg; June 19, 2012, Susp | ......do | Do.
Chest, Township of, Cambria County | 422604 | December 15, 1980, Emerg; September 10, 1984, Reg; June 19, 2012, Susp | ......do | Do.
Clearfield, Township of, Cambria County | 421437 | July 29, 1977, Emerg; March 5, 1990, Reg; June 19, 2012, Susp | ......do | Do.
Cresson, Township of, Cambria County | 422605 | July 12, 1976, Emerg; January 17, 1986, Reg; June 19, 2012, Susp | ......do | Do.
Croyle, Township of, Cambria County | 421439 | December 22, 1975, Emerg; August 15, 1990, Reg; June 19, 2012, Susp | ......do | Do.
Dale, Borough of, Cambria County | 421428 | February 28, 1977, Emerg; August 2, 1990, Reg; June 19, 2012, Susp | ......do | Do.
Dean, Township of, Cambria County | 421440 | April 25, 1977, Emerg; June 19, 1989, Reg; June 19, 2012, Susp | ......do | Do.
East Carroll, Township of, Cambria County | 422268 | November 19, 1981, Emerg; March 5, 1990, Reg; June 19, 2012, Susp | ......do | Do.
East Conemaugh, Borough of, Cambria County | 422259 | February 25, 1977, Emerg; June 18, 1990, Reg; June 19, 2012, Susp | ......do | Do.
East Taylor, Township of, Cambria County | 421441 | February 10, 1976, Emerg; April 2, 1990, Reg; June 19, 2012, Susp | ......do | Do.
Ebensburg, Borough of, Cambria County | 422260 | September 19, 1975, Emerg; June 30, 1976, Reg; June 19, 2012, Susp | ......do | Do.
Elder, Township of, Cambria County | 422592 | February 26, 1976, Emerg; June 19, 1989, Reg; June 19, 2012, Susp | ......do | Do.
Ferndale, Borough of, Cambria County | 421429 | November 24, 1975, Emerg; November 5, 1986, Reg; June 19, 2012, Susp | ......do | Do.
Franklin, Borough of, Cambria County | 422593 | August 1, 1977, Emerg; April 2, 1990, Reg; June 19, 2012, Susp | ......do | Do.
Gallitzin, Township of, Cambria County | 422262 | August 15, 1975, Emerg; September 24, 1984, Reg; June 19, 2012, Susp | ......do | Do.
Geistown, Borough of, Cambria County | 420229 | May 19, 1976, Emerg; March 19, 1990, Reg; June 19, 2012, Susp | ......do | Do.
Hastings, Borough of, Cambria County | 420230 | August 25, 1975, Emerg; August 3, 1989, Reg; June 19, 2012, Susp | ......do | Do.
Jackson, Township of, Cambria County | 421442 | August 26, 1975, Emerg; June 30, 1976, Reg; June 19, 2012, Susp | ......do | Do.
Johnstown, City of, Cambria County | 420231 | August 4, 1972, Emerg; April 15, 1977, Reg; June 19, 2012, Susp | ......do | Do.
Lilly, Borough of, Cambria County | 421430 | February 25, 1977, Emerg; October 17, 1989, Reg; June 19, 2012, Susp | ......do | Do.
Lorain, Borough of, Cambria County | 420232 | July 29, 1977, Emerg; August 15, 1990, Reg; June 19, 2012, Susp | ......do | Do.
Lower Yoder, Township of, Cambria County | 420233 | October 6, 1972, Emerg; February 1, 1978, Reg; June 19, 2012, Susp | ......do | Do.
Middle Taylor, Township of, Cambria County | 421443 | April 25, 1977, Emerg; October 15, 1985, Reg; June 19, 2012, Susp | ......do | Do.
Munster, Township of, Cambria County | 422263 | December 3, 1982, Emerg; December 4, 1985, Reg; June 19, 2012, Susp | ......do | Do.
Nanty Glo, Borough of, Cambria County | 422610 | June 17, 1975, Emerg; September 15, 1989, Reg; June 19, 2012, Susp | ......do | Do.
Patton, Borough of, Cambria County | 420235 | July 11, 1975, Emerg; January 17, 1990, Reg; June 19, 2012, Susp | ......do | Do.
Portage, Township of, Cambria County | 421444 | March 28, 1978, Emerg; March 5, 1990, Reg; June 19, 2012, Susp | ......do | Do.
Reade, Township of, Cambria County | 421445 | July 21, 1977, Emerg; March 19, 1990, Reg; June 19, 2012, Susp | ......do | Do.
Richland, Township of, Cambria County | 422264 | May 12, 1975, Emerg; December 4, 1985, Reg; June 19, 2012, Susp | ......do | Do.
Scalp Level, Borough of, Cambria County | 420237 | April 19, 1976, Emerg; October 17, 1986, Reg; June 19, 2012, Susp | ......do | Do.
South Fork, Borough of, Cambria County | 420238 | August 15, 1975, Emerg; March 19, 1990, Reg; June 19, 2012, Susp | ......do | Do.
Southmont, Borough of, Cambria County | 420239 | May 4, 1977, Emerg; April 2, 1990, Reg; June 19, 2012, Susp | ......do | Do.
Stonycreek, Township of, Cambria County | 420241 | August 18, 1972, Emerg; February 15, 1978, Reg; June 19, 2012, Susp | ......do | Do.
Summerhill, Borough of, Cambria County | 420242 | July 9, 1975, Emerg; March 19, 1990, Reg; June 19, 2012, Susp | ......do | Do.
Summerhill, Township of, Cambria County | 421446 | December 18, 1975, Emerg; September 4, 1985, Reg; June 19, 2012, Susp | ......do | Do.
Susquehanna, Township of, Cambria County | 421447 | April 28, 1976, Emerg; November 24, 1978, Reg; June 19, 2012, Susp | ......do | Do.
Vintondale, Borough of, Cambria County | 420243 | May 28, 1975, Emerg; March 19, 1990, Reg; June 19, 2012, Susp | ......do | Do.
Washington, Township of, Cambria County | 421448 | January 27, 1977, Emerg; November 3, 1989, Reg; June 19, 2012, Susp | ......do | Do.
West Carroll, Township of, Cambria County | 421449 | June 15, 1976, Emerg; August 4, 1988, Reg; June 19, 2012, Susp | ......do | Do.
Westmont, Borough of, Cambria County | 421139 | March 29, 1974, Emerg; October 13, 1978, Reg; June 19, 2012, Susp | ......do | Do.
White, Township of, Cambria County | 422258 | May 3, 1977, Emerg; March 19, 1990, Reg; June 19, 2012, Susp | ......do | Do.
Wilmore, Borough of, Cambria County | 420244 | January 28, 1976, Emerg; December 5, 1990, Reg; June 19, 2012, Susp | ......do | Do.
West Virginia:
Barrackville, Town of, Marion County | 540098 | June 26 ,1975, Emerg; March 16, 1988, Reg; June 19, 2012, Susp | ......do | Do.
Fairmont, City of, Marion County | 540099 | February 14, 1977, Emerg; July 2, 1987, Reg; June 19, 2012, Susp | ......do | Do.
Fairview, Town of, Marion County | 540100 | March 24, 1975, Emerg; March 16, 1988, Reg; June 19, 2012, Susp | ......do | Do.
Farmington, Town of, Marion County | 540101 | March 24, 1975, Emerg; March 16, 1988, Reg; June 19, 2012, Susp | ......do | Do.
Grant Town, Town of, Marion County | 540102 | April 7, 1975, Emerg; March 4, 1988, Reg; June 19, 2012, Susp | ......do | Do.
Marion County, Unincorporated Areas | 540097 | August 21, 1975, Emerg; July 4, 1988, Reg; June 19, 2012, Susp | ......do | Do.
Monongah, Town of, Marion County | 540104 | April 21, 1975, Emerg; March 16, 1988, Reg; June 19, 2012, Susp | ......do | Do.
Pleasant Valley, City of, Marion County | 540292 | N/A, Emerg; March 29, 2004, Reg; June 19, 2012, Susp | ......do | Do.
Rivesville, Town of, Marion County | 540105 | April 18, 1975, Emerg; March 16, 1988, Reg; June 19, 2012, Susp | ......do | Do.
Worthington, Town of, Marion County | 540106 | May 13, 1975, Emerg; March 16, 1988, Reg; June 19, 2012, Susp | ......do | Do.
Region IV
Alabama:
Ashville, Town of, Saint Clair County | 010186 | June 5, 1975, Emerg; April 17, 1987, Reg; June 19, 2012, Susp | ......do | Do.
Moody, Town of, Saint Clair County | 010187 | May 21, 1975, Emerg; July 4, 1989, Reg; June 19, 2012, Susp | ......do | Do.
Odenville, Town of, Saint Clair County | 010188 | July 11, 1975, Emerg; August 5, 1986, Reg; June 19, 2012, Susp | ......do | Do.
Pell City, City of, Saint Clair County | 010189 | May 5, 1975, Emerg; July 4, 1989, Reg; June 19, 2012, Susp | ......do | Do.
Ragland, Town of, Saint Clair County | 010190 | June 26, 1975, Emerg; June 3, 1986, Reg; June 19, 2012, Susp | ......do | Do.
Riverside, Town of, Saint Clair County | 010288 | June 6, 1977, Emerg; August 19, 1986, Reg; June 19, 2012, Susp | ......do | Do.
Saint Clair County, Unincorporated Areas | 010290 | February 9, 1979, Emerg; September 29, 1989, Reg; June 19, 2012, Susp | ......do | Do.
Springville, Town of, Saint Clair County | 010289 | April 16, 1975, Emerg; August 19, 1986, Reg; June 19, 2012, Susp | ......do | Do.
Steele, Town of, Saint Clair County | 010291 | August 25, 1977, Emerg; September 18, 1985, Reg; June 19, 2012, Susp | ......do | Do.
Trussville, City of, Jefferson and Saint Clair Counties | 010133 | June 26, 1975, Emerg; November 18, 1981, Reg; June 19, 2012, Susp | ......do | Do.
South Carolina:
Aiken, City of, Aiken County | 450003 | December 17, 1973, Emerg; April 16, 1979, Reg; June 19, 2012, Susp | ......do | Do.
Aiken County, Unincorporated Areas | 450002 | July 31, 1975, Emerg; March 4, 1980, Reg; June 19, 2012, Susp | ......do | Do.
Burnettown, Town of, Aiken County | 450004 | March 19, 1976, Emerg; February 4, 1987, Reg; June 19, 2012, Susp | ......do | Do.
Jackson, City of, Aiken County | 450005 | April 12, 1976, Emerg; May 15, 1986, Reg; June 19, 2012, Susp | ......do | Do.
New Ellenton, City of, Aiken County | 450006 | May 9, 1975, Emerg; June 30, 1976, Reg; June 19, 2012, Susp | ......do | Do.
North Augusta, City of, Aiken County | 450007 | March 12, 1975, Emerg; February 1, 1980, Reg; June 19, 2012, Susp | ......do | Do.
Region V
Wisconsin:
Kenosha, City of, Kenosha County | 550209 | April 14, 1975, Emerg; September 2, 1982, Reg; June 19, 2012, Susp | ......do | Do.
Kenosha County, Unincorporated Areas | 550523 | December 12, 1973, Emerg; February 17, 1982, Reg; June 19, 2012, Susp | ......do | Do.
Pleasant Prairie, Village of, Kenosha County | 550613 | N/A, Emerg; April 3, 1998, Reg; June 19, 2012, Susp | ......do | Do.
Silver Lake, Village of, Kenosha County | 550210 | March 20, 1974, Emerg; September 1, 1978, Reg; June 19, 2012, Susp | ......do | Do.
Twin Lakes, Village of, Kenosha County | 550211 | June 24, 1975, Emerg; June 1, 1982, Reg; June 19, 2012, Susp | ......do | Do.
Region VI
Arkansas:
Alexander, Town of, Pulaski and Saline Counties | 050377 | September 26, 1980, Emerg; January 20, 1982, Reg; June 19, 2012, Susp | ......do | Do.
Arkansas City, City of, Desha County | 050066 | April 22, 1975, Emerg; October 5, 1982, Reg; June 19, 2012, Susp | ......do | Do.
Benton, City of, Saline County | 050192 | July 2, 1975, Emerg; December 15, 1981, Reg; June 19, 2012, Susp | ......do | Do.
Bryant, City of, Saline County | 050308 | June 20, 1975, Emerg; June 28, 1977, Reg; June 19, 2012, Susp | ......do | Do.
Desha County, Unincorporated Areas | 050065 | August 3, 1978, Emerg; November 15, 1985, Reg; June 19, 2012, Susp | ......do | Do.
Dumas, City of, Desha County | 050067 | September 20, 1974, Emerg; November 19, 1980, Reg; June 19, 2012, Susp | ......do | Do.
Haskell, City of, Saline County | 050416 | September 22, 1975, Emerg; August 19, 1987, Reg; June 19, 2012, Susp | ......do | Do.
McGehee, City of, Desha County | 050068 | January 23, 1975, Emerg; November 19, 1980, Reg; June 19, 2012, Susp | ......do | Do.
Reed, Town of, Desha County | 050070 | July 3, 1975, Emerg; November 23, 1982, Reg; June 19, 2012, Susp | ......do | Do.
Traskwood, City of, Saline County | 050294 | July 25, 1975, Emerg; October 12, 1982, Reg; June 19, 2012, Susp | ......do | Do.
Watson, City of, Desha County | 050072 | June 13, 1975, Emerg; October 19, 1982, Reg; June 19, 2012, Susp | ......do | Do.
Louisiana:
Central, City of, East Baton Rouge Parish | 220060 | N/A, Emerg; April 6, 2007, Reg; June 19, 2012, Susp | ......do | Do.
Delta, Village of, Madison Parish | 220123 | May 21, 1973, Emerg; September 25, 1979, Reg; June 19, 2012, Susp | ......do | Do.
East Baton Rouge Parish, Unincorporated Areas | 220058 | June 12, 1970, Emerg; July 2, 1979, Reg; June 19, 2012, Susp | ......do | Do.
Madison Parish, Unincorporated Areas | 220122 | May 10, 1973, Emerg; March 4, 1988, Reg; June 19, 2012, Susp | ......do | Do.
Mound, Village of, Madison Parish | 220124 | May 21, 1973, Emerg; July 12, 1977, Reg; June 19, 2012, Susp | ......do | Do.
Richmond, Village of, Madison Parish | 220125 | September 3, 1974, Emerg; July 16, 1980, Reg; June 19, 2012, Susp | ......do | Do.
Zachary, City of, East Baton Rouge Parish | 220061 | July 2, 1973, Emerg; September 15, 1977, Reg; June 19, 2012, Susp | ......do | Do.
Oklahoma:
Covington, Town of, Garfield County | 400362 | June 30, 1975, Emerg; May 1, 1985, Reg; June 19, 2012, Susp | ......do | Do.
Enid, City of, Garfield County | 400062 | November 2, 1973, Emerg; March 15, 1979, Reg; June 19, 2012, Susp | ......do | Do.
Garber, City of, Garfield County | 400380 | June 25, 1976, Emerg; August 5, 1985, Reg; June 19, 2012, Susp | ......do | Do.
Garfield County, Unincorporated Areas | 400473 | June 24, 1986, Emerg; September 27, 1991, Reg; June 19, 2012, Susp | ......do | Do.
Kremlin, City of, Garfield County | 400293 | October 27, 1976, Emerg; May 25, 1978, Reg; June 19, 2012, Susp | ......do | Do.
Lahoma, Town of, Garfield County | 400294 | N/A, Emerg; August 27, 1993, Reg; June 19, 2012, Susp | ......do | Do.
North Enid, Town of, Garfield County | 400425 | June 18, 1975, Emerg; April 1, 1981, Reg; June 19, 2012, Susp | ......do | Do.
Texas:
Caldwell County, Unincorporated Areas | 480094 | May 15, 1975, Emerg; March 15, 1982, Reg; June 19, 2012, Susp | ......do | Do.
Luling, City of, Caldwell County | 480096 | May 5, 1975, Emerg; January 16, 1979, Reg; June 19, 2012, Susp | ......do | Do.
Martindale, City of, Caldwell County | 481587 | November 16, 1983, Emerg; March 15, 1982, Reg; June 19, 2012, Susp | ......do | Do.
San Marcos, City of, Caldwell County | 485505 | October 9, 1970, Emerg; August 27, 1971, Reg; June 19, 2012, Susp | ......do | Do.
Tom Green County, Unincorporated Areas | 480622 | June 19, 1978, Emerg; August 3, 1992, Reg; June 19, 2012, Susp | ......do | Do.
Uhland, City of, Caldwell County | 481668 | N/A, Emerg; December 4, 2009, Reg; June 19, 2012, Susp | ......do | Do.
Region VII
Iowa:
Eldora, City of, Hardin County | 190139 | April 14, 1975, Emerg; May 1, 1987, Reg; June 19, 2012, Susp | ......do | Do.
Union, City of, Hardin County | 190142 | December 15, 1975, Emerg; June 1, 1987, Reg; June 19, 2012, Susp | ......do | Do.
Missouri:
Hardin, City of, Ray County | 290307 | November 10, 1975, Emerg; January 6, 1983, Reg; June 19, 2012, Susp | ......do | Do.
Henrietta, City of, Ray County | 290308 | April 8, 1977, Emerg; August 16, 1982, Reg; June 19, 2012, Susp | ......do | Do.
Orrick, City of, Ray County | 290309 | July 18, 1974, Emerg; January 19, 1983, Reg; June 19, 2012, Susp | ......do | Do.
Ray County, Unincorporated Areas | 290778 | March 26, 1975, Emerg; January 19, 1983, Reg; June 19, 2012, Susp | ......do | Do.
Richmond, City of, Ray County | 290657 | February 17, 1995, Emerg; May 1, 1999, Reg; June 19, 2012, Susp | ......do | Do.
*-do- = Ditto.
Code for reading third column: Emerg.—Emergency; Reg.—Regular; Susp—Suspension.

Dated: June 12, 2012.
David L. Miller,
Associate Administrator, Federal Insurance and Mitigation Administration, Department of Homeland Security, Federal Emergency Management Agency.

[FR Doc. 2012-14717 Filed 6-15-12; 8:45 am]

BILLING CODE 9110-12-P